DEPARTMENT OF COMMERCE

Foreign-Trade Zones Board

[B-22-2020]

Foreign-Trade Zone 139—Sierra Vista, Nevada, Application for Reorganization (Expansion of Service Area), Under Alternative Site Framework

An application has been submitted to the Foreign-Trade Zones (FTZ) Board by the Arizona Regional Economic Development Foundation, grantee of Foreign-Trade Zone 139, requesting authority to reorganize the zone to expand its service area under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the FTZ Board (15 CFR part 400). It was formally docketed on April 21, 2020.

FTZ 139 was approved by the FTZ Board on March 13, 1987 (Board Order 352, 52 FR 9320, March 24, 1987) and reorganized under the ASF on May 23, 2013 (Board Order 1901, 78 FR 33340-33341, June 4, 2013). The zone currently has a service area that includes a portion of Cochise County, Arizona.

The applicant is now requesting authority to expand the service area of the zone to include all of Cochise County except for the cities of Bowie and San Simon, Arizona, as described in the application. If approved, the grantee would be able to serve sites throughout the expanded service area based on companies' needs for FTZ designation. The application indicates that the proposed expanded service area is adjacent to the Douglas, Arizona; Naco, Arizona; and Nogales, Arizona Customs and Border Protection Ports of Entry.

In accordance with the FTZ Board's regulations, Qahira El-Amin of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is June 29, 2020. Rebuttal comments in response to material submitted during the foregoing period may be submitted during the subsequent 15-day period to July 13, 2020.

A copy of the application will be available for public inspection in the “Reading Room” section of the FTZ Board's website, which is accessible via www.trade.gov/ftz. For further information, contact Qahira El-Amin at Qahira.El-Amin@trade.gov or (202) 482-5928.

Dated: April 22, 2020.
Andrew McGilvray,
Executive Secretary.

[FR Doc. 2020-08998 Filed 4-27-20; 8:45 am]

BILLING CODE 3510-DS-P